DEPARTMENT OF THE INTERIOR

Bureau of Reclamation

Agency Information Collection Activities; Renewal of a Currently Approved Information Collection (OMB Control Number 1006-0029)

AGENCY: Bureau of Reclamation, Interior.

ACTION: Notice of renewal and request for comments.

SUMMARY: The Bureau of Reclamation intends to submit a request for renewal of an existing approved information collection to the Office of Management and Budget (OMB): Reclamation Rural Water Supply Program (OMB Control Number 1006-0029). Title 43 CFR part 404 requires entities interested in participating in the Rural Water Supply Program (Rural Water Program) to submit information to allow Reclamation to evaluate and prioritize requests for financial or technical assistance.

DATES: Submit written comments by August 6, 2012.

ADDRESSES: Send written comments on this information collection to Christopher Perry, Bureau of Reclamation, 84-55000, P.O. Box 25007, Denver, CO 80225; or to cperry@usbr.gov.

FOR FURTHER INFORMATION CONTACT: Christopher Perry, 303-445-2887.

SUPPLEMENTARY INFORMATION:

I. Abstract

The purpose of the Rural Water Program is to provide assistance to small communities of 50,000 inhabitants or less, including tribes and tribal organizations, to plan the design and construction of projects to serve rural areas with industrial, municipal, and residential water. Specifically, the Bureau of Reclamation (Reclamation) is authorized to provide financial and technical assistance to conduct appraisal investigations and feasibility studies for rural water supply projects. Reclamation's regulation, 43 CFR part 404, establishes criteria governing how the program will be implemented, including eligibility and prioritization criteria, and criteria to evaluate appraisal and feasibility studies. Entities interested in participating in the Rural Water Program are requested to submit information regarding proposed appraisal investigation and feasibility studies, to allow Reclamation to evaluate and prioritize requests for financial or technical assistance under the program. Reclamation will apply the program criteria to the information provided to determine whether the entity seeking assistance is eligible, whether the project is eligible for assistance, and to what extent the project meets Reclamation's prioritization criteria. Requests for assistance under the Rural Water Program will be made on a voluntary basis. There is no form associated with this information collection.

II. Data

OMB Control Number: 1006-0029.

Title: Reclamation Rural Water Supply Program.

Frequency: Once annually.

Respondents: States, tribes, municipalities, water districts, and other entities created under State law with water management authority.

Estimated Annual Total Number of Respondents: 185.

Estimated Number of Responses per Respondent: 1.

Estimated Total Number of Annual Responses: 56.

Estimated Total Annual Burden on Respondents: 2,100 hours.

III. Request for Comments

Comments are invited on:

(a) Whether the proposed collection of information is necessary for the proper performance of our functions, including whether the information will have practical use;

(b) The accuracy of our burden estimate for the proposed collection of information;

(c) Ways to enhance the quality, usefulness, and clarity of the information to be collected; and

(d) Ways to minimize the burden of the collection of information on respondents, including the use of automated collection techniques or other forms of information technology.

We will summarize all comments received regarding this notice. We will publish that summary in the Federal Register when the information collection request is submitted to OMB for review and approval.

IV. Public Disclosure

Before including your name, address, phone number, email address, or other personal identifying information in your comment, you should be aware that your entire comment—including your personal identifying information—may be made publicly available at any time. While you can ask us in your comment to withhold your personal identifying information from public review, we cannot guarantee that we will be able to do so.

Dated: June 1, 2012.
Roseann Gonzales,
Director, Policy and Administration, Denver Office.

[FR Doc. 2012-13797 Filed 6-6-12; 8:45 am]

BILLING CODE 4310-MN-P